DEPARTMENT OF HEALTH AND HUMAN SERVICES

National Institutes of Health

Center for Scientific Review; Amended Notice of Meeting

Notice is hereby given of a change in the meeting of the Cancer Molecular Pathobiology Study Section, June 29, 2020, 8:00 a.m. to June 30, 2020, 5:00 p.m., National Institutes of Health, Rockledge II, 6701 Rockledge Drive, Bethesda, MD 20892, which was published in the Federal Register on June 02, 2020, 85 FR 33690.

This notice is being amended to change the meeting start time from 8:00 a.m. to 9:00 a.m. Meeting Date and Location remain the same. The meeting is closed to the public. The meeting is closed to the public.

Dated: June 11, 2020.
Melanie J. Pantoja,
Program Analyst, Office of Federal Advisory Committee Policy.

[FR Doc. 2020-12979 Filed 6-16-20; 8:45 am]

BILLING CODE 4140-01-P